DEPARTMENT OF THE INTERIOR

Bureau of Land Management

[LLWO320000 L19900000 PO0000]

Extension of Approved Information Collection, OMB Control Number 1004-0025

AGENCY: Bureau of Land Management, Interior.

ACTION: 60-Day notice and request for comments.

SUMMARY: In compliance with the Paperwork Reduction Act of 1995, the Bureau of Land Management (BLM) is announcing its intention to request approval to continue the collection of information under the General Mining Law. The Office of Management and Budget (OMB) previously approved this information collection, and assigned it the control number 1004-0025.

DATES: Comments on the proposed information collection must be received by August 3, 2009, to be assured of consideration.

ADDRESSES: You may mail comments to: U.S. Department of the Interior, Bureau of Land Management, Mail Stop 401LS, 1849 C St., NW., Washington, DC 20240 (Attention: 1004-0025). You may also comment electronically at the following address: Jean_Sonneman@blm.gov.

FOR FURTHER INFORMATION CONTACT: You may contact Rick Deery, Solid Minerals Group, on (202) 452-0355 (Commercial or FTS). Persons who use a telecommunication device for the deaf (TDD) may call the Federal Information Relay Service (FIRS) on 1-800-877-8330, 24 hours a day, seven days a week, to contact Mr. Deery.

SUPPLEMENTARY INFORMATION: OMB regulations at 5 CFR 1320, which implement provisions of the Paperwork Reduction Act (44 U.S.C. 3501-3521), require that interested members of the public and affected agencies have an opportunity to comment on information collection and recordkeeping activities (see 5 CFR 1320.8(d) and 1320.12(a)). This notice identifies an information collection that the BLM will be submitting to OMB for approval.

This collection is contained in 43 CFR parts 3860 and 3870. The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany the BLM's submission of the information collection requests to OMB.

Before including your address, phone number, e-mail address, or other personal identifying information in your comment, you should be aware that your entire comment-including your personal identifying information-may be made publicly available at any time. While you can ask us in your comment to withhold your personal identifying information from public review, we cannot guarantee that we will be able to do so.

The following information is provided for the information collection: (1) Title of the information collection; (2) OMB control number; (3) summary of the information collection activity; and (4) frequency of collection, description of the respondents, estimated total annual responses, and the total annual reporting and recordkeeping burden for the collection of information.

Title: 43 CFR part 3860—Mineral Patent Applications and 43 CFR part 3870—Adverse Claims, Protests and Conflicts.

OMB Control Number: 1004-0025.

Summary: On its face, the General Mining Law (30 U.S.C. 29, 30, and 39) authorizes a holder of an unpatented claim for hardrock minerals to apply for fee title (patent) to the Federal land (as well as minerals) embraced in the claim. Since 1994, a rider on the annual appropriation bill for the Department of the Interior has prevented the BLM from processing mineral patent applications unless the applications were grandfathered under the initial legislation. This moratorium does not affect mineral surveys, contests, or protests to existing mineral patent applications. Therefore, this information collection continues to be necessary.

Frequency of Collection: Once.

Description of Respondents: Owners of unpatented mining claims and mill sites upon the public lands, and of reserved mineral lands of the United States, National Forests, and National Parks.

Total Annual Responses: 28 mineral survey applications. 3 protests or adverse claims.

Total Annual Burden Hours for Mineral Survey Applicants: 28.

Total Annual Burden Hours for Protests or Adverse Claims: 6.

Total Annual Burden for All Respondents: 34 hours.

Jean Sonneman,
Acting Information Collection Clearance Officer, Bureau of Land Management.

[FR Doc. E9-12872 Filed 6-2-09; 8:45 am]

BILLING CODE 4310-84-P